DEPARTMENT OF ENERGY

Federal Energy Regulatory Commission

Combined Notice of Filings #2

Take notice that the Commission received the following electric rate filings:

Docket Numbers: ER11-4081-003.

Applicants: Midcontinent Independent System Operator, Inc.

Description: Compliance filing: 2015-12-18 RAR Compliance Filing to be effective 10/1/2012.

Filed Date: 12/18/15.

Accession Number: 20151218-5211.

Comments Due: 5 p.m. ET 1/8/16.

Docket Numbers: ER15-2101-003.

Applicants: Golden West Power Partners, LLC.

Description: Compliance filing: Notice of Change in Status of Golden West Power Partners, LLC to be effective 9/1/2015.

Filed Date: 12/18/15.

Accession Number: 20151218-5120.

Comments Due: 5 p.m. ET 1/8/16.

Docket Numbers: ER16-565-000.

Applicants: Midcontinent Independent System Operator, Inc., Ameren Illinois Company.

Description: § 205(d) Rate Filing: 2015-12-18_SA 2878 ATXI-AIC Construction Agreement (Faraday Substation) to be effective 12/18/2015.

Filed Date: 12/18/15.

Accession Number: 20151218-5118.

Comments Due: 5 p.m. ET 1/8/16.

Docket Numbers: ER16-566-000.

Applicants: NorthWestern Corporation.

Description: § 205(d) Rate Filing: SA 767 1st Rev—NITSA with Basin Electric Power Cooperative to be effective 3/1/2016.

Filed Date: 12/18/15.

Accession Number: 20151218-5130.

Comments Due: 5 p.m. ET 1/8/16.

Docket Numbers: ER16-567-000.

Applicants: NorthWestern Corporation.

Description: § 205(d) Rate Filing: SA 642 2nd Rev—NITSA with General Mills Operations to be effective 3/1/2016.

Filed Date: 12/18/15.

Accession Number: 20151218-5137.

Comments Due: 5 p.m. ET 1/8/16.

Docket Numbers: ER16-568-000.

Applicants: Duke Energy Florida, LLC.

Description: § 205(d) Rate Filing: FMPA NITSA Amendment-OATT SA No. 148 to be effective 1/1/2016.

Filed Date: 12/18/15.

Accession Number: 20151218-5173.

Comments Due: 5 p.m. ET 1/8/16.

Docket Numbers: ER16-569-000.

Applicants: NorthWestern Corporation.

Description: § 205(d) Rate Filing: SA 760 1st Rev—NITSA with Beartooth Electric Cooperative to be effective 3/1/2016.

Filed Date: 12/18/15.

Accession Number: 20151218-5186.

Comments Due: 5 p.m. ET 1/8/16.

Docket Numbers: ER16-570-000.

Applicants: Tucson Electric Power Company.

Description: Compliance filing: Order No. 784 Compliance Filing to be effective 2/17/2016.

Filed Date: 12/18/15.

Accession Number: 20151218-5194.

Comments Due: 5 p.m. ET 1/8/16.

Docket Numbers: ER16-571-000.

Applicants: NorthWestern Corporation.

Description: § 205(d) Rate Filing: SA 312 8th Rev—NITSA with Southern Montana to be effective 3/1/2016.

Filed Date: 12/18/15.

Accession Number: 20151218-5195.

Comments Due: 5 p.m. ET 1/8/16.

Docket Numbers: ER16-572-000.

Applicants: UNS Electric, Inc.

Description: Compliance filing: Order No. 784 Compliance Filing to be effective 2/17/2016.

Filed Date: 12/18/15.

Accession Number: 20151218-5196.

Comments Due: 5 p.m. ET 1/8/16.

Docket Numbers: ER16-573-000.

Applicants: UniSource Energy Development Company.

Description: Compliance filing: Order No. 784 Compliance Filing to be effective 2/17/2016.

Filed Date: 12/18/15.

Accession Number: 20151218-5197.

Comments Due: 5 p.m. ET 1/8/16.

Docket Numbers: ER16-574-000.

Applicants: NorthWestern Corporation.

Description: § 205(d) Rate Filing: SA 605 5th Rev—NITSA with Bonneville Power Administration to be effective 3/1/2016.

Filed Date: 12/18/15.

Accession Number: 20151218-5199.

Comments Due: 5 p.m. ET 1/8/16.

Docket Numbers: ER16-575-000.

Applicants: NorthWestern Corporation.

Description: § 205(d) Rate Filing: SA 305 7th Rev—NITSA with Stillwater Mining Company to be effective 3/1/2016.

Filed Date: 12/18/15.

Accession Number: 20151218-5212.

Comments Due: 5 p.m. ET 1/8/16.

Docket Numbers: ER16-576-000.

Applicants: NorthWestern Corporation.

Description: § 205(d) Rate Filing: SA 666 3rd Rev—NITSA with Suiza Dairy to be effective 3/1/2016.

Filed Date: 12/18/15.

Accession Number: 20151218-5214.

Comments Due: 5 p.m. ET 1/8/16.

Docket Numbers: ER16-577-000

Applicants: Duke Energy Carolinas, LLC.

Description: § 205(d) Rate Filing: OATT Amendment and RS—Consolidated Method of Accounting to be effective 9/9/2010.

Filed Date: 12/18/15.

Accession Number: 20151218-5218.

Comments Due: 5 p.m. ET 1/8/16.

Docket Numbers: ER16-578-000

Applicants: Duke Energy Florida, LLC.

Description: § 205(d) Rate Filing: RS—Consolidated Method of Accounting to be effective 1/1/2014.

Filed Date: 12/18/15.

Accession Number: 20151218-5222.

Comments Due: 5 p.m. ET 1/8/16.

Docket Numbers: ER16-579-000.

Applicants: Duke Energy Progress, LLC.

Description: § 205(d) Rate Filing: RS—Consolidated Method of Accounting to be effective 4/29/2013.

Filed Date: 12/18/15.

Accession Number: 20151218-5225.

Comments Due: 5 p.m. ET 1/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2015.
Nathaniel J. Davis, Sr.,
Deputy Secretary.

[FR Doc. 2015-32400 Filed 12-23-15; 8:45 am]

BILLING CODE 6717-01-P